DEPARTMENT OF THE INTERIOR

Bureau of Land Management

[L10200000-MJ0000-LLORL00100; HAG 09-0010]

Southeast Oregon Resource Advisory Council: Meeting

AGENCY: Bureau of Land Management, Interior.

ACTION: Southeast Oregon Resource Advisory Council: Meeting.

Pursuant to the Federal Advisory Committee Act, the Department of the Interior Bureau of Land Management (BLM) announces the following advisory committee meeting:

Name: Southeast Oregon Resource Advisory Council (SEORAC).

Time and Date: 1 p.m. November 13, 2008; 8 a.m. November 14, 2008.

Place: Lakeview District Office, 1301 South G Street, Lakeview, Oregon 97630.

Status: Open to the public.

Summary: The SEORAC will be briefed on BLM's wild horse and burro program, BLM's sagebrush habitat treatments and the current status of the Oregon Explorer grant. Council members will also provide orientation to new members, conduct chair elections, establish their 2009 annual work plan and meeting schedule, receive information from designated federal officials, give constituent updates, implement a subgroup establishment process, present active subgroup reports and identify agenda items for the next meeting. Any other matters that may reasonably come before the SEORAC may also be addressed.

The public is welcome to attend all portions of the meeting and may contribute during the public comment period at 11:30 a.m. on November 14, 2008. Those who verbally address the SEORAC during the public comment period are asked to provide a written statement of their comments or presentation. Unless otherwise approved by the SEORAC chair, the public comment period will last no longer than 30 minutes, and each speaker may address the SEORAC for a maximum of five minutes.

For Further Information Contact: Program information, meeting records and a roster of council members may be obtained from Scott Stoffel, public affairs specialist, 1301 South G Street, Lakeview, OR 97630, (541) 947-6237. The meeting agenda will be posted at http://www.blm.gov/or/rac/seorrac-minutes.php when available.

Should you require reasonable accommodation, please contact the Lakeview District BLM at (541) 947-2177 as soon as possible.

Dated: October 24, 2008.
Michael J. Haske,
Acting District Manager.

[FR Doc. E8-26180 Filed 11-3-08; 8:45 am]

BILLING CODE 4310-33-P